DEPARTMENT OF COMMERCE

Foreign-Trade Zones Board

[B-38-2016]

Foreign-Trade Zone 87—Lake Charles, Louisiana; Application for Subzone; Westlake Chemical Corporation; Sulphur, Louisiana

An application has been submitted to the Foreign-Trade Zones (FTZ) Board by the Lake Charles Harbor & Terminal District, grantee of FTZ 87, requesting subzone status for the facilities of Westlake Chemical Corporation located in Sulphur, Louisiana. The application was submitted pursuant to the provisions of the Foreign-Trade Zones Act, as amended (19 U.S.C. 81a-81u), and the regulations of the FTZ Board (15 CFR part 400). It was formally docketed on May 25, 2016.

The proposed subzone would consist of the following sites: Site 1 (583.88 acres)—Petro Operations, 900 Highway 108, Sulphur; Site 2 (70.83 acres)—Poly Operations, 3525 Cities Services Highway, Sulphur; and, Site 3 (691.78 acres)—Marine Terminal Operations, 1820 PAK Tank Road, Sulphur. The proposed subzone would also include several pipelines. No authorization for production activity has been requested at this time.

In accordance with the FTZ Board's regulations, Camille Evans of the FTZ Staff is designated examiner to review the application and make recommendations to the FTZ Board.

Public comment is invited from interested parties. Submissions shall be addressed to the FTZ Board's Executive Secretary at the address below. The closing period for their receipt is July 12, 2016. Rebuttal comments in response to material submitted during the foregoing period may be submitted during the subsequent 15-day period to July 27, 2016.

A copy of the application will be available for public inspection at the Office of the Executive Secretary, Foreign-Trade Zones Board, Room 21013, U.S. Department of Commerce, 1401 Constitution Avenue NW., Washington, DC 20230-0002, and in the “Reading Room” section of the FTZ Board's Web site, which is accessible via www.trade.gov/ftz. For further information, contact Camille Evans at Camille.Evans@trade.gov or (202) 482-2350.

Dated: May 25, 2016.
Andrew McGilvray,
Executive Secretary.

[FR Doc. 2016-12958 Filed 6-1-16; 8:45 am]

BILLING CODE 3510-DS-P